DEPARTMENT OF HOMELAND SECURITY

U.S. Customs and Border Protection

DEPARTMENT OF THE TREASURY

19 CFR Part 12

[CBP Dec. 24-09]

RIN 1515-AE82

Imposition of Import Restrictions on Archaeological and Ethnological Material of Pakistan

AGENCY: U.S. Customs and Border Protection, Department of Homeland Security; Department of the Treasury.

ACTION: Final rule.

SUMMARY: This document amends the U.S. Customs and Border Protection (CBP) regulations to reflect the imposition of import restrictions on archaeological and ethnological materials from the Islamic Republic of Pakistan (Pakistan). These restrictions are imposed pursuant to an agreement between the United States and Pakistan, entered into under the authority of the Convention on Cultural Property Implementation Act. This document amends the CBP regulations, adding Pakistan to the list of countries which have bilateral agreements with the United States imposing cultural property import restrictions, and contains the Designated List, which describes the archaeological and ethnological materials to which the restrictions apply.

DATES: Effective on April 10, 2024.

FOR FURTHER INFORMATION CONTACT: For legal aspects, W. Richmond Beevers, Chief, Cargo Security, Carriers and Restricted Merchandise Branch, Regulations and Rulings, Office of Trade, (202) 325-0084, ot-otrrculturalproperty@cbp.dhs.gov. For operational aspects, Julie L. Stoeber, Chief, 1USG Branch, Trade Policy and Programs, Office of Trade, (202) 945-7064, 1USGBranch@cbp.dhs.gov.

SUPPLEMENTARY INFORMATION:

Background

The Convention on Cultural Property Implementation Act (Pub. L. 97-446, 19 U.S.C. 2601 et seq.) (CPIA), which implements the 1970 United Nations Educational, Scientific and Cultural Organization (UNESCO) Convention on the Means of Prohibiting and Preventing the Illicit Import, Export and Transfer of Ownership of Cultural Property (823 U.N.T.S. 231 (1972)) (Convention), allows for the conclusion of an agreement between the United States and another party to the Convention to impose import restrictions on certain archaeological and ethnological material. Pursuant to the CPIA, the United States entered into a bilateral agreement with the Islamic Republic of Pakistan (Pakistan) to impose import restrictions on certain archaeological and ethnological material of Pakistan. This rule announces that the United States is now imposing import restrictions on certain archaeological and ethnological material of Pakistan through January 30, 2029. This period may be extended for additional periods, each extension not to exceed 5 years, if it is determined that the factors justifying the initial agreement still pertain and no cause for suspension of the agreement exists (19 U.S.C. 2602(e); § 12.104g(a) of title 19 of the Code of Federal Regulations (19 CFR 12.104g(a))).

Determinations

Under 19 U.S.C. 2602(a)(1), the United States must make certain determinations before entering into an agreement to impose import restrictions under 19 U.S.C. 2602(a)(2). On August 29, 2022, the Assistant Secretary for Educational and Cultural Affairs, United States Department of State, after consultation with and recommendation by the Cultural Property Advisory Committee, made the determinations required under the statute with respect to certain archaeological and ethnological material originating in Pakistan that is described in the Designated List set forth below in this document.

These determinations include the following: (1) that the cultural patrimony of Pakistan is in jeopardy from the pillage of archaeological material representing Pakistan's cultural heritage dating from approximately 2,000,000 Years Before Present ¹ to A.D. 1750, and ethnological material representing Pakistan's diverse history, ranging in date from approximately A.D. 800 to 1849 (19 U.S.C. 2602(a)(1)(A)); (2) that the Pakistani government has taken measures consistent with the Convention to protect its cultural patrimony (19 U.S.C. 2602(a)(1)(B)); (3) that import restrictions imposed by the United States would be of substantial benefit in deterring a serious situation of pillage and remedies less drastic are not available (19 U.S.C. 2602(a)(1)(C)); and (4) that the application of import restrictions as set forth in this final rule is consistent with the general interests of the international community in the interchange of cultural property among nations for scientific, cultural, and educational purposes (19 U.S.C. 2602(a)(1)(D)). The Assistant Secretary also found that the material described in the determinations meets the statutory definition of “archaeological or ethnological material of the State Party” (19 U.S.C. 2601(2)).

¹ “Years Before Present” is commonly used instead of “B.C.” or “A.D.” within archaeology when radiocarbon dating or other similar dating techniques are utilized.

The Agreement

On January 30, 2024, the Governments of the United States and Pakistan signed a bilateral agreement, “Agreement Between the Government of the United States of America and the Government of the Islamic Republic of Pakistan Concerning the Imposition of Import Restrictions on Categories of Archaeological and Ethnological Materials of Pakistan” (“the Agreement”), pursuant to the provisions of 19 U.S.C. 2602(a)(2). The Agreement entered into force on January 30, 2024, following the exchange of diplomatic notes, and enables the promulgation of import restrictions on certain categories of archaeological material ranging in date from the Lower Paleolithic Period (approximately 2,000,000 Years Before Present) through A.D. 1750, as well as certain categories of ethnological material associated with Pakistan's diverse history from A.D. 800 through 1849. A list of the categories of archaeological and ethnological material subject to the import restrictions is set forth later in this document.

Restrictions and Amendment to the Regulations

In accordance with the Agreement, importation of material designated below is subject to the restrictions of 19 U.S.C. 2606 and 19 CFR 12.104g(a) and will be restricted from entry into the United States unless the conditions set forth in 19 U.S.C. 2606 and 19 CFR 12.104c are met. CBP is amending 19 CFR 12.104g(a) to indicate that these import restrictions have been imposed.

Import restrictions listed at 19 CFR 12.104g(a) are effective for no more than 5 years beginning on the date on which an agreement enters into force with respect to the United States. This period may be extended for additional periods of not more than 5 years if it is determined that the factors which justified the agreement still pertain and no cause for suspension of the agreement exists. Therefore, the import restrictions will expire on January 30, 2029, unless extended.

Designated List of Archaeological and Ethnological Material of Pakistan

The Agreement between the United States and Pakistan includes, but is not limited to, the categories of objects described in the Designated List set forth below. Importation of material on this list is restricted unless the material is accompanied by documentation certifying that the material left Pakistan legally and not in violation of the export laws of Pakistan.

The Designated List includes archaeological and ethnological material from Pakistan. The archaeological material in the Designated List includes, but is not limited to, objects made of stone, ceramic, faience, clay, metal, plaster, stucco, painting, ivory, bone, glass, leather, bark, vellum, parchment, paper, textiles, wood, shell, and/or other organic materials, as well as human remains ranging in date from the Lower Paleolithic Period through A.D. 1750. The ethnological material in the Designated List includes, but is not limited to, architectural materials and manuscripts ranging in date from A.D. 800 through 1849.

Categories of Archaeological and Ethnological Material

(I) Archaeological Material

(A) Stone

(B) Ceramic, Faience, and Fired Clay

(C) Metal

(D) Plaster, Stucco, and Unfired Clay

(E) Paintings

(F) Ivory and Bone

(G) Glass

(H) Leather, Birch Bark, Vellum, Parchment, and Paper

(I) Textiles

(J) Wood, Shell, and other Organic Material

(K) Human Remains

(II) Ethnological Material

(A) Architectural Materials

(B) Manuscripts

Approximate Simplified Chronology of Well-Known Periods:

(a) Paleolithic, Neolithic, and Chalcolithic: c. 2,000,000 Years Before Present-3500 B.C.

(b) Bronze Age (Pre-Indus, Indus, and Post-Indus Periods): c. 3500-1500 B.C.

(c) Iron Age: c. 1500-600 B.C.

(d) Early Historic Period (Achaemenid, Macedonian, and Mauryan Empires; Greco-Bactrian, Indo-Greek, Indo-Scythian, and Indo-Parthian Kingdoms; Gandharan Culture; Kushan Empire; Kushano-Sasanian Period; Gupta Empire; and Turk Shahi Dynasty): c. 600 B.C.-A.D. 712.

(e) Middle Historic Period (Umayyad Caliphate, Hindu Shahi, Habbari, Ghaznavid, and Ghurid Dynasties): c. A.D. 712-1206.

(f) Late Historic Period (Delhi Sultanate; Mughal Empire; Sikh Empire): c. A.D. 1206-1849

(I) Archaeological Material

(A) Stone

(1) Architectural Elements—Primarily in limestone, marble, sandstone, and steatite schist, but includes other types of stone. Category includes, but is not limited to, arches, balustrades, benches, brackets, bricks and blocks from walls, ceilings, and floors; columns, including capitals and bases; dentils; domes; door frames; false gables; friezes; lintels; merlons; mihrabs; minarets; mosaics; niches; pilasters; pillars, including capitals and bases; plinths; railings; ring stones; vaults; window screens (jalis). Elements may be plain, carved in relief, incised, inlaid, or inscribed in various languages and scripts; may be painted and/or gilded. Architectural elements may include relief sculptures, mosaics, and inlays that were part of a building, such as friezes, panels, or figures in the round. Includes architectural elements of Hellenistic (Greek) influence, such as Ionic and Corinthian styles, and/or depicting geometric, floral, or vegetal motifs, or figures and scenes from Hellenistic (Greek), Buddhist, Hindu, and Jain religious traditions. For example, Early Historic Period Gandharan architectural reliefs may include images of the Buddha, Bodhisattvas, human devotees, and scenes from the life of the Buddha. Approximate Date: 2600 B.C.-A.D. 1750.

(2) Non-Architectural Monuments—Primarily in limestone, marble, steatite schist, but includes other types of stone. Types include, but are not limited to: altars; bases; basins; cenotaphs; funerary headstones and monuments; fountains; libation platforms; linga(m); monoliths; niches; plaques; portable shrines; roundels; sarcophagi; slabs; stands; stelae; stelae bases; and yoni. Monuments may be plain, carved in relief, incised, inlaid, or inscribed in various languages and scripts; may be painted and/or gilded. Decorative elements may include geometric, floral, and/or vegetal motifs, as well as animal, mythological, and/or human figures, such as images from Hellenistic (Greek), Buddhist, Hindu, and Jain religious traditions. Includes rock edicts and pillars with incised inscriptions. Approximate Date: 800 B.C.-A.D. 1750.

(3) Large Statuary—Primarily in steatite schist but includes other types of stone. Statuary includes seated or standing human and divine figures, such as statues of the Buddha, Bodhisattvas, and devotees, as well as figures from Hindu religious traditions. Large statuary is primarily associated with the Early Historic Period Gandharan tradition. Statues may bear inscriptions in various languages and scripts. Approximate Date: 800 B.C.-A.D. 1200.

(4) Small Statuary—Primarily in agate, alabaster, chlorite, garnet, jade, jasper, limestone, marble, sandstone, and steatite schist, but includes other types of stone. Animal and human forms may be stylized or naturalistic. Includes game pieces. Small statuary is found throughout many periods from the Bronze Age onward; well-known styles date to the Indus and Early to Middle Historic Periods. Approximate Date: 3500 B.C.-A.D. 1750.

(a) Bronze Age Indus Period statuary is often made in alabaster, limestone, sandstone, or steatite. It includes human figures, such as bearded, seated males that may be schematic or more detailed and may have inlaid eyes, and female dancers, as well as animal figures such as bulls, rams, or composite mythological creatures that may be either schematic or naturalistic. Approximate Date: 3500-1800 B.C.

(b) Early Historic through Middle Historic period statuary made in alabaster, garnet, steatite schist, and other stones. Includes figures from Hellenistic (Greek), Buddhist, and Hindu religious traditions. Approximate Date: 800 B.C.-A.D. 1000.

(5) Vessels and Containers—Primarily in alabaster, chlorite, jade, rock crystal, and steatite, but includes other types of stone. Vessel types may be conventional shapes such as bowls, boxes, canisters, cups, cylindrical vessels, goblets, flasks, jars, jugs, lamps, platters, stands, and trays, and may also include caskets, cosmetic containers or palettes, inkpots, pen boxes, spittoons, reliquaries (and their contents), and incense burners. Includes vessel lids. Some reliquaries may take the shape of a Buddhist stupa. Surfaces may be plain, polished, and/or incised or carved in relief with geometric, floral, or vegetal decoration, elaborate figural scenes, and/or inscriptions in various languages. Vessels may be inlaid with stones or gilded. Includes round trays or cosmetic palettes carved in relief, often with Hellenistic (Greek) mythological or banquet scenes. Approximate Date: 6000 B.C.-A.D. 1750.

(6) Tools, Instruments, and Weights—Includes ground stone and flaked stone tools.

(a) Ground stone tools, instruments, and weights are mainly made from chert, diorite, gneiss, granite, jade, marble, limestone, quartz, sandstone, or steatite, but other types of stone are included. Types include adzes, anvils, axes, balls, celts, grinding stones, hammerstones, maces, mills, molds, mortars, palettes, pestles, querns, rods, rubbers, scepters, whetstones, and others. Also included are counters, dice, finials, fly whisk handles, game pieces, hilts, mirror frames and handles, spindle whorls, trays, and weights. Stone weights are found in various shapes, such as cubes, rectangular prisms, rings, spheres, and truncated spheres, and may be decorated with incisions or relief carving and/or inscribed in various languages and scripts. Mirror handles of the Early Historic Period may be carved in human and animal forms, and dagger and sword hilts of the Mughal period may be carved in zoomorphic shapes and inlaid with precious or semi-precious stones, glass and/or precious metals. Approximate Date: 8000 B.C.-A.D. 1750.

(b) Flaked stone tools are primarily made of chalcedony, chert or other cryptocrystalline silicates, flint, jasper, obsidian, or quartzite, but other types of stone are included. Types include axes, bifaces, blades, burins, borers, choppers, cleavers, cores, hammers, microliths, points, projectiles, scrapers, sickles, unifaces, and others. Approximate Date: 2,000,000 Years Before Present—600 B.C.

(7) Beads and Jewelry—Primarily in alabaster, agate, amethyst, carnelian, chalcedony, coral, cryptocrystalline silicates, emerald, garnet, jade, jasper, lapis lazuli, onyx, quartz, rock crystal, ruby, steatite, and turquoise, but also includes other types of stone. Steatite beads may be fired and glazed. Carnelian beads bleached (etched) in white with geometric designs are particularly representative of the Bronze Age Indus period. Beads were made in animal, biconical, conical, cylindrical, disc, dumbbell, eye, faceted, scaraboid, spherical, teardrop, and other shapes. May bear geometric designs, images, and/or inscriptions in various languages and scripts. Jewelry includes amulets, bracelets, pendants, rings, and other types. Approximate Date: 7000 B.C.-A.D. 1750.

(8) Stamps, Seals, and Gems—Primarily in agate, amethyst, carnelian, chalcedony, hematite, jasper, rock crystal, steatite, but also includes other types of stone. Stamps, seals, and gems may have engravings that include animals, human figures, geometric, floral, or vegetal designs, and/or inscriptions in various languages and scripts. Includes cameos and intaglios. Well-known styles are from the Neolithic, Chalcolithic, Bronze Age, Iron Age, Early Historic Period, and Middle to Late Historic Periods. Approximate Date: 7000 B.C.-A.D. 1750.

(a) Chalcolithic and Bronze Age seals are usually square or rectangular stamp seals, but may also be circular, cylindrical, oval, or triangular, and may have a pierced knob handle. They may be made of steatite (usually fired and glazed) or other stones. Incised designs often feature inscriptions in the Indus script, either alone or together with animals such as bulls, elephants, and unicorns, as well as human, divine, and mythological figures, plants, and symbols. Designs may also be geometric. Approximate Date: 2800-1800 B.C.

(b) Stamps and intaglio seals of the Iron Age and Early Historic Period are usually made of stones such as agate, carnelian, chalcedony, garnet, hematite, jasper, lapis lazuli, onyx, quartz, and steatite. They are usually oval, rectangular, button-shaped or hemispherical. Stamps and seals may be incised, drilled, cut, or relief-carved with animals, human, divine, and/or mythological figures, and/or symbols of Hellenistic (Greek), Achaemenid/Persian, Buddhist, Zoroastrian, or Hindu traditions; may be carved with a portrait bust; may be perforated for suspension or set into a ring; may be inscribed in various languages and scripts. Approximate Date: 1500 B.C.-A.D. 712.

(c) Stamps and seals of the Middle and Late Historic Periods are usually made in carnelian, chalcedony, hematite, or other stones and are circular, oval, octagonal, teardrop-shaped, rectangular, or square. They are usually carved with inscriptions in Arabic or Persian script, sometimes with floral embellishments. Approximate Date: A.D. 712-1750.

(B) Ceramic, Faience, and Fired Clay

(1) Statuary—Includes small and large-scale statuary in ceramic, faience, and terracotta. May take the form of an animal, deity, human, hybrid animal/human or other mythological creature, cart frame or wheel, model mask, model boat, model house, or model stupa. May be associated with religious activity, games, or toys. May be painted or have traces of paint or pigment. Forms may be stylized or naturalized. Well-known styles date to the Chalcolithic, Bronze Age, Iron Age, Early Historic, and Middle Historic Periods. Approximate Date: 5500 B.C.-A.D. 1750.

(a) Chalcolithic and Bronze Age (Pre-Indus and Indus Period) male and female terracotta figurines are stylized with applied or incised eyes, hair, headdresses, or necklaces and tapered legs. Animal figurines in terracotta and faience may be stylized, with applied and incised details, or naturalistic and sometimes partly formed in a mold. Approximate Date: 5500-1800 B.C.

(b) Late Bronze Age (Post-Indus) and Iron Age terracotta human figurines may have pinched faces, incised details, and/or flat bases. Approximate Date: 1800-600 B.C.

(c) Early Historic Period terracotta figurines may be mold-made in Indo-Greek or local style or handmade with incised and applied details. They include female figurines (in the round and as plaques), horse-and-rider figurines, and animals. Approximate Date: 600 B.C.-A.D. 500.

(d) Early Historic Period large-scale terracotta statuary in the Gandharan tradition can be hand-formed or mold-made in the image of animals, humans, and mythological figures. May be painted, plastered, and/or inlaid with stones. Includes statues of the Buddha, Bodhisattvas, and devotees. Approximate Date: 1st-9th Centuries A.D.

(e) Middle Historic, Hindu Shahi Period terracotta figurines of male and female human figures and animals are handmade and schematic with pinched faces and applied and incised details. They can be slipped and painted. Approximate Date: 9th-10th Centuries A.D.

(2) Architectural Elements—Includes terracotta bricks, niches, panels, pipes, tiles, window screens (jalis), and other elements used as functional or decorative elements in buildings and mosaics. Bricks may be cut or molded to form decorative patterns on building exteriors. Mosaic designs include animals, humans, and geometric, floral, and/or vegetal motifs. Panels and tiles may be painted, plastered, or have traces of paint or plaster. Tiles may bear carved, incised, or impressed or molded decoration in the form of animals, humans, geometric, floral, and/or vegetal motifs. Glazed tiles and bricks are well-known from the Middle and Late Historic Periods, used to decorate civic and religious architecture. Tiles may be square or polygonal. They may have been molded, incised, and/or painted with animal, geometric, floral, and/or vegetal motifs, arabesque (intertwining) motifs, and or calligraphic writing in various scripts and languages before glazing. Glaze may be clear, monochrome, or polychrome. Polychrome glaze may be applied in the cuerda seca technique. Approximate Date: 3500 B.C.-A.D. 1750.

(3) Vessels—Includes utilitarian vessels, fine tableware, lamps, special-purpose vessels, and other ceramic objects of everyday use produced in many periods of Pakistan's history. Approximate Date: 6000 B.C.-A.D. 1750.

(a) Neolithic—Includes handmade earthenware vessels. Vessel types include bowls, jars, pots, and other forms. They may be made of coarse chaff- or sand-tempered clay, sometimes with red-slipped surface, often with basket or mat impressions. Approximate Date: 6000-5500 B.C.

(b) Chalcolithic—Includes handmade and wheel-made earthenware vessels. Vessel types include bowls, jars, flat dishes, pots, and other forms. Surface can be reddish-yellow, yellowish, buff, gray, brown, or red-brown, and burnished or red-slipped. Sometimes painted in black, brown, and/or red with simple geometric and animal motifs. Approximate Date: 5500-3500 B.C.

(c) Bronze Age (Pre-Indus, Indus, and Post-Indus Periods)—Includes handmade and wheel-made earthenware vessels. Vessel types include bowls, canisters, cooking pots, goblets, jars, lids, plates, pedestalled stands, perforated strainers, and other forms. Can also take the form of birdcages, feeder bottles, and mousetraps. Surface can be buff, greenish-gray, gray, red, red-buff, or white, sometimes with basket impressions or applied snake motifs. Sometimes slipped in black, gray, or red clay, occasionally combed to reveal the clay color beneath. Sometimes painted (monochrome, bichrome, or polychrome) in black, blue, brown, green, red, white, and yellow with simple or complex geometric motifs, animals such as birds, cattle, deer, dogs, gazelle, fish, and others, and/or vegetal motifs such as pipal leaves. Can be incised with characters in the Indus script. Approximate Date: 3500-1500 B.C.

(d) Iron Age—Includes handmade and wheel-made earthenware vessels. Vessel types include bottles, bowls, cooking pots, goblets, lids, jars, jugs, juglets, lids, plates, saucers, tubs, urns, and other forms. Vessel forms may have a pedestalled foot or stand, handles, and/or spouts. Surfaces can be red, gray, gray-black, brown, or brown-gray and may be slipped, grooved, and/or burnished. Painted decoration in monochrome or bichrome colors includes animal, human, plant, and/or geometric motifs. “Visage” jars or urns characteristic of this period depict a human face through modeling and incision or perforation. Approximate Date: 1500-600 B.C.

(e) Early Historic Period—Includes handmade, mold-made, or wheel-made earthenware vessels. Vessel types include conventional shapes such as basins, beakers, bottles, bowls, cooking pots, cups, dishes (thalis), jars, pitchers, plates, storage vessels, trays, and vases (kraters), as well as other forms such as incense burners, lamps, rhyta (drinking horns), and stands. Vessel forms may have pedestal bases, handles, and/or spouts. Some vessels may have been formed into elaborate shapes using molds. “Tulip bowls” with a rounded base, flaring rim, and carinated or kinked body are typical of the early part of this period. Includes round trays or cosmetic palettes decorated in relief with Hellenistic (Greek) mythological scenes or banquet scenes. Vessels may have a brown, buff, gray, red, dark purplish-red, yellow, or black surface. Surface treatments may include slip, burnishing, polishing, incising, impressing (including grooving, rouletting, and stamping), appliqué, painting, and/or glazing. Stamp impressions include simple geometric motifs; leaves, lotuses, and rosettes; and elaborate scenes combining animal, human, geometric, floral, and/or vegetal motifs. Molded animal heads, human figures, or rosettes in clay may be applied to the exterior surface of a vessel or attached as a handle. Painted designs include geometric, floral, and vegetal motifs, as well as friezes of humans, animals, and plants. Some vessels may be covered with green, blue-green, brown, or yellow glaze. Vessels may be incised or painted with inscriptions in various languages and scripts. Approximate Date: 6th Century B.C.-9th Century A.D.

(f) Middle and Late Historic Periods—Includes handmade, molded, and wheel-made earthenware vessels, as well as porcelain. Vessel types include conventional shapes such as bowls, cooking pots, cups, ewers, flasks, jars, jugs, lamps, lids, pans, platters, trays, water vessels (lota), and other types such as hookah pots, incense burners, vessels with a pedestalled foot, kneading troughs, model stupas, pipes, and vessels in the shape of animals. Clay is often red or buff. Surface treatments may include slip, polishing, burnishing, incising, impressing, appliqué, painting, and/or glazing. Stamps and impressions include motifs such as circles, bars and dots, rosettes, eyes, and human faces. Molded designs can include inscriptions and/or geometric, floral, and/or vegetal motifs on unglazed or glazed vessels. Spouts and handles may be formed in the shape of animals. Painted decoration includes animal, geometric, floral, and vegetal motifs, as well as inscriptions in various languages and scripts, variously applied on a slipped surface, under a colorless glaze, or over a colored glaze. Designs may be scratched (sgraffiato) through the slip to reveal the clay color beneath before glazing. Glazes may be colorless, monochrome, or polychrome. Common colors include green, yellow, blue, black, brown, turquoise, and white. Imported types include celadon (green ware) and blue-and-white porcelain from China. Approximate Date: 9th Century A.D.-A.D. 1750.

(4) Beads, Jewelry, and Ornaments—Includes bangles, beads, bracelets, buttons, ear spools, inlays, and rings made of faience and terracotta. Beads include barrel, biconical, cylindrical, segmented, and other shapes. Faience may be colored with blue, blue-green, red, and white glaze. Approximate Date: 5500 B.C.-A.D. 1750.

(5) Tools and Instruments—Includes terracotta balls, buttons, “cakes,” coin molds, statuary molds, vessel molds, cones, cubes, dabbers, dice, discs, flutes, loom weights, net-sinkers, stamps, rattles, rubbers, spindle whorls, scoops, spoons, stoppers, tri-armed kiln setters, whistles, and other objects. Bronze Age “cakes” may be circular, square, or triangular, and whistles may take the shape of animals such as birds. May be incised or stamped with characters in various scripts. Approximate Date: 6000 B.C.-A.D. 1750.

(6) Stamps and Seals—Terracotta faience stamp seals were produced in the Bronze Age, Early Historic Period, and Middle Historic Hindu Shahi Period. Bronze Age Indus Period stamp seals can be square or circular in shape and compartmented with geometric and animal motifs and/or inscribed with Indus script. Approximate Date: 3500 B.C.-A.D. 1000.

(7) Tablets and Sealings—Terracotta and faience tablets and sealings of the Bronze Age Indus period may be cylindrical, rectangular, or prismatic and molded in relief with images of animals, humans, and other motifs, and/or inscriptions in Indus script. Approximate Date: 2600-1800 B.C.

(C) Metal—Includes copper, gold, silver, iron, lead, tin, electrum, and alloys such as bronze, brass, pewter, and steel. Metal objects were produced in many periods of Pakistan's history, beginning in the Chalcolithic Period. Approximate Date: 5500 B.C.-A.D. 1750.

(1) Containers and Vessels—Vessel types include conventional shapes such as basins, bottles, bowls, boxes, canisters, cauldrons, chalices, cups, dishes, ewers, flasks, jars, jugs, lamps, pans, plates, platters, pots, stands, utensils, and vases, but also include forms such as caskets, hookah pots, incense burners, reliquaries (and their contents), and spittoons. Some reliquaries may take the form of a Buddhist stupa. One end of some drinking vessels (rhyta) may take the form of an animal or mythical creature. They may include lids, spouts, and handles of vessels. Metal containers may have been decorated by chasing (embossing), engraving, gilding, inlaying, punching, and/or repoussé (relief hammering). Designs include, but are not limited to, inscriptions in various languages and scripts, arabesque (intertwining) motifs, geometric, floral, and vegetal motifs, animal motifs, and portrait busts or scenes of human figures, such as ceremonial, banquet, or hunting scenes. Some containers and vessels, such as reliquaries, may be inlaid with precious or semi-precious stones, as well as precious metals such as gold and silver. Approximate Date: 5500 B.C.-A.D. 1750.

(2) Jewelry and Personal Adornments—Types include, but are not limited to, amulets, amulet holders, bangles, beads, bracelets, belts, bracteates, brooches, buckles, buttons, charms, clasps, crowns, earrings, ear spools, hair ornaments, hairpins, headdress or hat ornaments, lockets, necklaces, pectoral ornaments, pendants, pins, rings, rosettes, and staffs. Includes metal ornaments, appliqués, and clasps once attached to textiles or leather objects. Includes also metal scrolls inscribed in various languages and scripts. May have been decorated by chasing (embossing), cloisonné, enameling, engraving, filigree, gilding, granulation, inlaying, and/or repoussé (relief hammering). Decoration may include animal, human, geometric, floral, or vegetal motifs. May include inlays of ivory, bone, animal teeth, enamel, other metals, precious stones, and/or semi-precious stones. Approximate Date: 5500 B.C.-A.D. 1750.

(3) Tools and Instruments—Types include, but are not limited to, axes, backscratchers, bells, blades, chisels, drills, goads, hinges, hooks, keys, knives, measuring rods, mirrors, mirror handles, nails, pickaxes, pins, rakes, rods, saws, scale weights, shears, sickles, spades, spoons, staffs, trowels, weights, and tools of craftspeople such as carpenters, masons, and metalsmiths. Approximate Date: 5500 B.C.-A.D. 1750.

(4) Weapons and Armor—Includes body armor, such as chain mail, helmets, plate armor, scale armor, shin guards, shields, shield bosses, horse armor, and horse bits and bridle elements. Also includes launching weapons (arrowheads, spearheads, and javelin heads); hand-to-hand combat weapons (axes, swords, including sabers and scimitars, daggers, including khajars and katars, and maces); and sheaths. Some weapons may be highly decorative and incorporate inlays of other types of metal, precious stones, or semi-precious stones in the sheaths and hilts. Some weapons, hilts, and sheaths may be engraved or chased (embossed) with inscriptions in various languages and scripts, arabesque (intertwining), geometric, floral, and/or vegetal motifs, and/or human or animal scenes, such as hunting scenes. Approximate Date: 3500 B.C.-A.D. 1750.

(5) Coins—Ancient coins include gold, silver, copper, and copper alloy coins in a variety of denominations. Includes gold and silver ingots, which may be plain and/or inscribed. Some of the most well-known types are described below:

(a) Early coins in Pakistan include silver sigloi of the Achaemenid Empire. Gold staters and silver tetradrachms and drachms of Alexander the Great and Philip III Arrhidaeus are also found. Regionally minted Achaemenid-period coins include silver bent bars (shatamana) with punched symbols such as wheels or suns. Local Hellenistic (Greek)-period and Mauryan imperial punch-marked silver coins (karshapana) are covered with various symbols such as suns, crescents, six-arm designs, hills, peacocks, and others. Circular or square, die-struck cast copper alloy coins with relief symbols and/or animals on one or both sides also date to this period. Approximate Date: 6th-2nd Centuries B.C.

(b) Greco-Bactrian, Indo-Greek, Indo-Scythian, and Indo-Parthian coins include gold staters, silver tetradrachms, drachms, and obols, and copper alloy denominations. Copper alloy coins are often square. The bust of the king, the king on horseback, Greek and Hindu deities, the Buddha, elephants, bulls, and other animals are common designs. The name of the king is often written in Greek, Kharosthi or Brahmi script. Approximate Date: 2nd Century B.C.-1st Century A.D.

(c) Roman Imperial coins struck in silver and bronze are sometimes found in archaeological contexts in Pakistan. Approximate Date: 1st Century B.C.-4th Century A.D.

(d) Kushan coins include gold dinars, silver tetradrachms, and copper alloy denominations. Imagery includes the king as a portrait bust (“Augustus type”), standing figure with a fire altar, or equestrian figure; emblems (tamgha); and figures from Greek, Zoroastrian, Buddhist, and Hindu religious traditions. Inscriptions are written in Greek, Bactrian, and/or Brahmi scripts. Approximate Date: A.D. 30-350.

(e) Sasanian coins include gold dinars, silver drachms, obols (dang), and copper alloy denominations. Imagery includes the bust of the king wearing a large crown and Zoroastrian fire altars and deities. Inscriptions are usually written in Pahlavi, but gold dinars minted in Sindh with Brahmi inscriptions are included. Approximate Date: A.D. 240-651.

(f) Kushano-Sasanian or Kushanshah coins include gold dinars, silver tetradrachms, and copper alloy denominations. Some Kushano-Sasanian coins followed the Kushan style of imagery, while others resemble Sasanian coins. Inscriptions are written in Greek, Bactrian, Brahmi, or Pahlavi scripts. Approximate Date: A.D. 225-365.

(g) Gupta coins include gold dinars and silver and copper alloy denominations. Imagery includes the king in various postures and activities, the queen, Hindu deities, altars, and animals. Inscriptions are usually written in pseudo-Greek or Brahmi script. Approximate Date: A.D. 345-455.

(h) Coins of the Hephthalite, Kidarite, Alchon and Nezak Hun, Rai, Brahmin Chacha, and Turk Shahi Dynasties include silver and copper alloy denominations. Designs resemble Sasanian coins with a portrait bust of the ruler wearing a distinctive crown on the obverse and a fire altar or other Zoroastrian imagery on the reverse. Coins sometimes bear emblems (tamghas) and/or inscriptions in Bactrian, Pahlavi, Brahmi, or Nagari script. Designs are sometimes highly schematized. Approximate Date: 5th-9th Centuries A.D.

(i) Hindu Shahi silver coins often bear inscriptions in Nagari or Sharada script and depict a horseman and a bull, or an elephant and a lion. Approximate Date: A.D. 822-1026.

(j) The Umayyad and Abbasid Caliphates and the Ghaznavid and Ghurid Empires issued gold dinars, silver dirhams, and copper alloy fulus (singular fals) bearing Arabic inscriptions on both faces. Inscriptions are often enclosed in circles, squares, rings of dots, or an inscription band. Silver and copper alloy denominations of local governors, the Habbari Dynasty of Sindh, and the Emirate of Multan are similar, but some coins of Multan carry inscriptions in Nagari or Sharada. Some Ghaznavid coins carry bilingual inscriptions in Arabic and Sharada scripts, and some bear images of a bull and horseman. Some Ghurid coins bear inscriptions in Devanagari and/or stylized images of a flower, bull, horseman, and/or goddess. Approximate Date: A.D. 712-1206.

(k) The Delhi Sultanate issued gold tankas, silver tankas and jitals, and copper alloy denominations bearing Arabic inscriptions, either enclosed in a circle, scalloped circle, octofoil, flower, square, or inscription band, or covering the full face of the coins. Some bear inscriptions in Devanagari and/or stylized images of a bull, horseman, lion, or goddess. Some coins are square. Approximate Date: A.D. 1206-1526.

(l) The Mughal Empire issued coins such as gold mohurs; silver shahrukhis, rupees, and tankas; copper and copper alloy dams, and other denominations. Coins bear Arabic inscriptions enclosed in a circle, ring of dots, square, or inscription band, or covering the entire face. Some coins are square. Some coins bear an image of the seated emperor, a portrait bust of the emperor, a sun, and/or Zodiac symbols. Approximate Date: A.D. 1526-1749.

(6) Statuary, Ornaments, and other Decorated Objects—Primarily in copper, gold, silver, or alloys such as bronze and brass. Includes free-standing and supported statuary; relief or incised plaques or roundels; finials; votive ornaments; stands; and other ornaments. Statuary may be fashioned as humans, animals, deities, or mythological figures; miniature chariots; wheeled carts; or other objects. Statuary may take naturalized or stylized forms. Decorative techniques for statuary, ornaments, and other decorated objects include chasing (embossing), gilding, engraving, repoussé (relief hammering), and/or inlaying with other materials. Decorative elements may include humans, deities, animals, mythological figures, scenes of activity, floral, geometric, and/or vegetal motifs, and/or inscriptions in various languages and scripts. Imagery representative of the Early Historic and Middle Historic Periods includes figures from Hellenistic (Greek), Buddhist, and Hindu religious traditions. Approximate Date: 3500 B.C.-A.D. 1750.

(7) Stamps, Seals, and Tablets—Primarily cast in copper and alloys such as bronze and brass; also includes stamps and seals in gold or silver. Types include amulets, flat tablets, rings, small devices with engraving on one side, and others. Stamps and seals may have engravings that include animals, humans, deities, mythological figures, geometric, floral, and vegetal motifs, symbols, and/or inscriptions in various languages and scripts. May be inlaid with other types of material. Approximate Date: 3500 B.C.-A.D. 1750.

(D) Plaster, Stucco, and Unfired Clay—Includes ceiling decoration or tracery, columns, corbels, cornices, large- and small-scale figures of animals, humans, and deities, friezes, medallions, mihrabs, ornaments, niches, panels, plaques, reliefs, roundels, stupas, vaults, window screens, and other architectural and non-architectural decoration or sculpture. May be painted or bear traces of paint; gilded; inlaid with stones or other materials; and/or inscribed in various languages and scripts. Stucco panels may depict elaborate scenes of animals and human activity (such as hunting or elite activity) and/or arabesque (intertwining), geometric, floral, and/or vegetal patterns. Stucco panels may have been made with molds. Stucco sculpture and decorated objects of the Early Historic Period may resemble Hellenistic (Greek) styles and figures; they may depict individuals such as the Buddha, Bodhisattvas, or devotees. Unfired clay bullae and roundels with stamped or rolled impressions used as sealing material are included. Approximate Date: 5500 B.C.-A.D. 1750.

(E) Paintings—Includes paintings, frescoes, and fragments on natural stones and cave walls, building walls and ceilings, and portable media. Rock paintings of the Paleolithic through Bronze Age are usually executed in red or black pigments and depict stylized animals and humans or symbols. Patterns in red, black, and white pigments are typical for wall paintings of the Neolithic period. Rock and wall frescoes of the Early Historic Period depict humans, animals, and geometric symbols, sometimes with imagery from Buddhist and Hindu religious traditions, in various colors and styles. Wall and ceiling frescoes with polychrome arabesque, floral, vegetal, and geometric patterns and inscriptions are typical of the Mughal Period. Mughal Period paintings also include miniature portraits set in rings or pendants and larger paintings on cotton. Approximate Date: 30,000 B.C.-A.D. 1750.

(F) Ivory and Bone

(1) Non-Architectural Relief Panels and Plaques—Decorated and engraved panels and plaques featuring low-and high-relief carvings. May include imagery of humans, deities, animals, mythological creatures, and human activity, as well as floral, geometric, and/or vegetal motifs. May be gilded and/or painted or bear traces of paint or pigment. Approximate Date: 1st Century A.D.-A.D. 1750.

(2) Statuary—Includes carved animal, human, and deity figures. Geometric, floral, and/or vegetal decorative elements may be part of the carved design. Approximate Date: 1st Century A.D.-A.D. 1750.

(3) Containers, Tools, Handles, and other Instruments—Includes awls, boxes, buckles, buttons, caskets, combs, flasks, game dice, game pieces, dagger or sword handles or hilts, mirrors and mirror handles, points, polishers, reliquaries, rods, rulers, spatulas, spindles, stoppers, and other personal objects made of ivory and bone. May be incised and/or painted with decorative motifs, inlaid with other materials, carved in relief, carved in zoomorphic shapes, and/or inscribed in various languages and scripts. Approximate Date: 45,000 B.C.-A.D. 1750.

(4) Furniture and Furniture Elements—Includes bone or ivory brackets, handles, finials, and elements of chairs, couches, beds, footstools, chests, trunks and other types of furniture such as arms, legs, feet, inlays, and panels. Approximate Date: 1st Century A.D.-A.D. 1750.

(5) Jewelry and Ornaments—Types include, but are not limited to, beads, pendants, hairpins, pins, and rings. Approximate Date: 5500 B.C.-A.D. 1750.

(6) Stamps and Seals—Bone and ivory seals include button-shaped and square stamps, among other shapes. May be engraved with animals, humans, deities, geometric, floral, and/or vegetal designs, symbols, and/or inscriptions in various languages and scripts, including the Indus script. Approximate Date: 4000 B.C.-A.D. 712.

(G) Glass

(1) Architectural Elements—Includes glass pieces or tiles arranged in mosaic fashion to create geometric, floral, and/or vegetal designs on architectural surfaces or in windows. Glass may be mirrored or stained. Approximate Date: 1st Century A.D.-A.D. 1750.

(2) Beads and Jewelry—Includes beads in the form of animals, cylinders, cones, discs, spheres, or other shapes, as well as bangles. Decoration may include bevels, incisions, and/or raised decoration. Includes glass inlay used in other types of jewelry and decorated items. Includes stamp seals or gems incised with decorative and figural designs. Approximate Date: 1100 B.C.-A.D. 1750.

(3) Vessels—Vessel types include conventional shapes such as beakers, bottles, bowls, cups, dishes, flasks, goblets, jars, mugs, plates, and vases, and other forms such as cosmetic containers, lamps, medicine droppers, and animal-shaped vessels. Some vessels may have been formed in molds or using mosaic techniques. May be monochrome or polychrome. Some polychrome glass vessels may have been painted with arabesque (intertwining), floral and/or vegetal designs or bear traces of paint. Approximate Date: 1st Century A.D.-A.D. 1750.

(4) Ornaments—Includes glass medallions. May have molded decorations including, but not limited to, animals, humans, geometric, floral, and vegetal motifs. Typically associated with the Ghaznavid and Ghurid periods. Approximate Date: A.D. 1000-1200.

(H) Leather, Birch Bark, Vellum, Parchment, and Paper

(1) Books and Manuscripts—Includes scrolls, sheets, and bound volumes. Texts may be written in ink on birch bark, vellum, parchment, or paper, and may be gathered into leather or wooden bindings, albums, or folios. Includes secular and religious texts. Texts of the Early Historic Period written on birchbark, vellum, and parchment include sacred texts of Buddhism and other religions of ancient Pakistan, as well as texts on secular topics such as mathematics, and are written in various languages and scripts, such as Brahmi, Gandhari, Kharosthi, and Sharada. Books and manuscripts of the Middle and Late Historic Periods were written primarily on paper in various languages in scripts such as Arabic, Persian, Devanagari, and Sharada. Topics of this period include, but are not limited to, religion, religious epics, science, mathematics, medicine, literature, poetry, history, and biography. Books and manuscripts of this period may be embellished or decorated with monochrome or polychrome paintings or illuminations of arabesque (intertwining), geometric, floral, or vegetal motifs; images of animals, plants, and humans, including individual portraits; landscapes; and/or scenes of human activities, such as courtly gatherings and ceremonies, hunting, falconry, battles, and historical, mythological, or legendary events. May be in miniature form with decorated borders. Paper may be marbleized and/or embellished with gold. Approximate Date: 1st Century A.D.-A.D. 1750.

(2) Items of Personal Adornment—Primarily in leather, including bracelets and other types of jewelry, belts, necklaces, sandals, and shoes. May be embroidered or embellished with other materials. Leather goods may have also been used in conjunction with textiles. Approximate Date: 7000 B.C.-1750 A.D.

(I) Textiles—Includes silk, linen, cotton, hemp, wool, and other woven materials used in basketry and other household goods. Includes clothing, shoes, jewelry, and items of personal adornment; sheaths; burial shrouds; tent coverings, tent hangings, and other domestic textiles; carpets; baskets; and others. Textiles may be plain, or patterns may have been woven into the body of the textile. Other decorative techniques include embroidery, application of gold leaf, or painting with various motifs, such as animals, geometric, floral, and vegetal motifs, and other designs. Gold or silver threads may be woven into the textile. Approximate Date: 7000 B.C.-A.D. 1750.

(J) Wood, Shell, and other Organic Material—Wooden objects include architectural elements, such as arches, balconies, bases, benches, capitals, columns, doors, door frames, friezes, lintels, mihrabs, minbars, jambs, panels, posts, screens, shutters, window frames and fittings, and window screens, or pieces of any of these objects; boxes; coffins; finials; furniture; jewelry and other items of personal adornment; musical instruments; statuary and figurines; stamps and seals with engraved designs and/or inscriptions in various languages and scripts; vessels and containers; weapons such as bows; and other objects. Jewelry and ornaments made of shell, mother-of-pearl, and pearl include bangles, beads, bracelets, cones, inlays, necklaces, pendants, rings, studs, and other types. Vessels made of shell or set with mother-of-pearl panels include ewers, ladles, libation vessels, plates, and spoons. Wooden, shell, mother-of-pearl, and pearl objects may be carved, incised, inlaid with other materials, lacquered, and/or painted. Approximate Date: 7000 B.C.-1750 A.D.

(K) Human Remains—Human remains and fragments of human remains, including skeletal remains, soft tissue, and ash from the human body that may be preserved in burials, reliquaries, and other contexts.

(II) Ethnological Material

Ethnological material in the Designated List includes manuscripts and architectural materials from civic and religious buildings associated with Pakistan's diverse history from A.D. 800 through 1849.

(A) Architectural Materials—Architectural materials include non-industrial and/or handmade elements used to decorate civic and religious architecture. They may be made of stone, ceramic or terracotta, plaster and stucco, glass, and/or wood, and painted media.

(1) Stone—Primarily in limestone, marble, sandstone, and steatite schist. Includes arches; balustrades; benches; brackets; bricks and blocks from walls, ceilings, and floors; columns, including capitals and bases; corbels; cornices; dentils; domes; door frames; false gables; friezes; lintels; merlons; mihrabs; minarets; mosaics; niches; panels; pilasters; pillars, including capitals and bases; plinths; railings; ringstones; vaults; window screens (jalis); and others. May be plain, carved in relief, incised, inlaid, or inscribed in various languages and scripts. May be painted and/or gilded. May include relief sculptures, mosaics, and inlays that were part of a civic or religious building, such as friezes, panels, or figures in the round. Imagery may be civic or religious. Mosaic designs include animals, humans, and geometric, floral, and/or vegetal motifs. Approximate Date: A.D. 800-1849.

(2) Ceramic and Fired Clay—Includes terracotta (fired clay) bricks, mosaics, niches, panels, pipes, tiles, window screens (jalis), and other elements used as decorative elements in civic and religious buildings. Bricks may be cut or molded to form decorative patterns on building exteriors. Mosaic designs include animals, humans, and geometric, floral, and/or vegetal motifs. Panels and tiles may be painted, plastered, or have traces of paint or plaster. Tiles may be square or polygonal and may be carved, incised, impressed, or molded with decorations in the form of animals, humans, geometric, arabesque (intertwining), floral, and/or vegetal motifs, and/or calligraphic writing in various scripts and languages, and/or then glazed. Glaze may be clear, monochrome, and/or polychrome. Polychrome glaze may be applied in the cuerda seca technique. Approximate Date: A.D. 800-1849.

(3) Plaster and Stucco—Includes ceiling decoration or tracery, columns, corbels, cornices, friezes, medallions, mihrabs, niches, panels, plaques, reliefs, roundels, vaults, window screens, and other types. May be painted or bear traces of paint; gilded; inlaid with stones or other materials; and/or inscribed in various languages and scripts. Designs may include arabesque (intertwining), geometric, floral, and/or vegetal patterns. May have been made using molds. Approximate Date: A.D. 800-1849.

(4) Paintings and Frescos—Includes paintings and frescoes on civic and religious building walls and ceilings, and fragments thereof. Frescoes with polychrome arabesque (intertwining), floral, vegetal, and/or geometric patterns and inscriptions are typical of the Mughal Period. Jain and Hindu temples and Sikh gurdwaras are sometimes adorned with frescoes depicting human and animal figures and scenes, as well as floral, vegetal, and geometric motifs. Approximate Date: A.D. 800-1849.

(5) Glass—Includes glass pieces or tiles arranged in mosaic fashion to create geometric, floral, and/or vegetal designs on architectural surfaces or in windows. Glass may be mirrored or stained. Often found in mosques and Sikh gurdwaras. Approximate Date: A.D. 1000-1849.

(6) Wood—Includes hand-carved arches, balconies, bases, benches, capitals, columns, doors, door frames, friezes, lintels, mihrabs, minbars, jambs, panels, posts, screens, shutters, window frames and fittings, and window screens, or parts thereof, used as structural elements in and/or to decorate civic or religious architecture. These architectural elements may have been reused for new purposes, such as a wood panel used as a table, or a door jamb used as a bench. May be carved, incised, inlaid with other materials, and/or painted. Approximate Date: A.D. 800-1849.

(B) Manuscripts—Manuscripts, portions of manuscripts, and works on paper include non-industrial, handmade, handwritten, hand-illustrated and/or illuminated scrolls, sheets, and bound volumes. They may be made of various media, from writing, illustrations, and/or illuminations on parchment, vellum, birchbark, cotton, or paper to binding in leather or wood. Texts may be written in various languages and scripts, such as Arabic, Balochi, Brahmi, Gandhari, Kharoshti, Nagari, Pashto, Persian, Sharada, Sindhi, and/or Urdu. They may include sacred texts of Buddhism and/or other religious traditions. Other topics include, but are not limited to, astronomy, botany, history, literature, mathematics, medicine, poetry, religion, and/or sciences. May be embellished or decorated with monochrome, bichrome, or polychrome handmade illustrations and/or illuminations. These may include arabesque (intertwining), geometric, floral, or vegetal motifs; images of animals, plants, and humans, including portraiture; landscapes; and/or scenes of human activities, such as courtly gatherings and ceremonies, hunting, falconry, battles, and historical, mythological, or legendary events. May be in miniature form with decorated borders. Approximate Date: A.D. 800-1849.

References

Adle, C., I. Habib, and K.M. Baipakov, eds. 2003. History of Civilizations in Central Asia. Volume V. Development in Contrast: From the Sixteenth to the Mid-Nineteenth Century. Paris: UNESCO Publishing.

Ashmolean Museum. Collection Online. https://collections.ashmolean.org/.

Asimov, M.S., and C.E. Bosworth, eds. 1998. History of Civilizations in Central Asia. Volume IV. The Age of Achievement: A.D. 750 to the End of the Fifteenth Century. Part One: The Historical, Social, and Economic Setting. Paris: UNESCO Publishing.

Behrendt, K.A. 2007. The Art of Gandhara in the Metropolitan Museum of Art. New York: Metropolitan Museum of Art.

Bosworth, C.E., and M.S. Asimov, eds. 2000. History of Civilizations in Central Asia. Volume IV. The Age of Achievement: A.D. 750 to the End of the Fifteenth Century. Part Two: The Achievements. Paris: UNESCO Publishing.

British Museum. Explore the Collection. https://www.britishmuseum.org/collection.

Coningham, R., and R. Young. 2015. The Archaeology of South Asia: From the Indus to Asoka, c. 6500 BCE-200 CE. Cambridge: Cambridge University Press.

Dani, A.H., and V.M. Masson, eds. 1992. History of Civilizations in Central Asia. Volume I. The Dawn of Civilization: Earliest Times to 700 B.C. Paris: UNESCO Publishing.

Harmatta, J., B.N. Puri, and G.F. Etemadi, eds. 1994. History of Civilizations in Central Asia. Volume II. The Development of Sedentary and Nomadic Civilizations: 700 B.C. to A.D. 250. Paris: UNESCO Publishing.

Jongeward, D. 2019. Buddhist Art of Gandhara: In the Ashmolean Museum. Oxford: Ashmolean Museum.

Kenoyer, J.M. 1998. Ancient Cities of the Indus Valley. Karachi: Oxford University Press.

Lahore Museum. n.d. Lahore Museum: A Gallery of Our Culture. A Guide. Lahore: Lahore Museum Publications.

Litvinsky, B.A., Z. Guang-da, and R.S. Samghabadi, eds. 1996. History of Civilizations in Central Asia. Volume III. The Crossroads of Civilizations: A.D. 250 to 750. Paris: UNESCO Publishing.

Long, R.D., ed. 2015. A History of Pakistan. Karachi: Oxford University Press.

Mairs, R., ed. 2021. The Graeco-Bactrian and Indo-Greek World. Abingdon: Routledge.

Metropolitan Museum of Art. 1987. The Islamic World. New York: Metropolitan Museum of Art. Metropolitan Museum of Art. The Met Collection. https://www.metmuseum.org/art/the-collection.

Mills, M.A., Claus, P.J., and Diamond, S. 2003. South Asian Folklore: An Encyclopedia Afghanistan, Bangladesh, India, Nepal, Pakistan, Sri Lanka. New York: Routledge. University of Pennsylvania Museum of Archaeology and Anthropology. Online Collections. https://www.penn.museum/collections/.

Victoria and Albert Museum. The Arts of the Mughal Empire. https://www.vam.ac.uk/articles/the-arts-of-the-mughal-empire.

Victoria and Albert Museum. Explore the Collections. https://www.vam.ac.uk/collections?type=featured.

Inapplicability of Notice and Delayed Effective Date

This amendment involves a foreign affairs function of the United States and is, therefore, being made without notice or public procedure (5 U.S.C. 553(a)(1)). For the same reason, a delayed effective date is not required under 5 U.S.C. 553(d)(3).

Executive Orders 12866 and 13563

Executive Orders 12866 (as amended by Executive Order 14094) and 13563 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. CBP has determined that this document is not a regulation or rule subject to the provisions of Executive Orders 12866 and 13563 because it pertains to a foreign affairs function of the United States, as described above, and therefore is specifically exempted by section 3(d)(2) of Executive Order 12866 and, by extension, Executive Order 13563.

Regulatory Flexibility Act

The Regulatory Flexibility Act (5 U.S.C. 601 et seq.), as amended by the Small Business Regulatory Enforcement Fairness Act of 1996, requires an agency to prepare and make available to the public a regulatory flexibility analysis that describes the effect of a proposed rule on small entities (i.e., small businesses, small organizations, and small governmental jurisdictions) when the agency is required to publish a general notice of proposed rulemaking for a rule. Since a general notice of proposed rulemaking is not necessary for this rule, CBP is not required to prepare a regulatory flexibility analysis for this rule.

Signing Authority

This regulation is being issued in accordance with 19 CFR 0.1(a)(1) pertaining to the Secretary of the Treasury's authority (or that of the Secretary's delegate) to approve regulations related to customs revenue functions.

Troy A. Miller, the Senior Official Performing the Duties of the Commissioner, having reviewed and approved this document, has delegated the authority to electronically sign this document to the Director (or Acting Director, if applicable) of the Regulations and Disclosure Law Division for CBP, for purposes of publication in the Federal Register.

List of Subjects in 19 CFR Part 12

Cultural property, Customs duties and inspection, Imports, Prohibited merchandise, Reporting and recordkeeping requirements.

Amendment to CBP Regulations

For the reasons set forth above, part 12 of title 19 of the Code of Federal Regulations (19 CFR part 12), is amended as set forth below:

PART 12—SPECIAL CLASSES OF MERCHANDISE

1. The general authority citation for part 12 and the specific authority citation for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (a) is amended by adding Pakistan to the list in alphabetical order to read as follows:

§ 12.104g Specific items or categories designated by agreements or emergency actions.

(a) * * *

State party | Cultural property | Decision No.
* * * * * * *
Pakistan | Archaeological material of Pakistan ranging from the Lower Paleolithic Period (approximately 2,000,000 Years Before Present) through A.D. 1750, and ethnological material of Pakistan ranging in date from approximately A.D. 800 through 1849 | CBP Dec. 24-09.
* * * * * * *

* * * * *

Emily K. Rick,
Acting Director, Regulations & Disclosure Law Division, Regulations & Rulings, Office of Trade, U.S. Customs and Border Protection.
Aviva R. Aron-Dine,
Acting Assistant Secretary of the Treasury for Tax Policy.

[FR Doc. 2024-07244 Filed 4-9-24; 8:45 am]

BILLING CODE 9111-14-P